DEPARTMENT OF JUSTICE

Notice of Lodging of Settlement Agreement

Notice is hereby given that on October 5, 2010, a proposed settlement agreement in United States v. Sunoco, Inc., et al., Civil Action No. 05-6336, was lodged with the United States District Court for the Eastern District of Pennsylvania.

In this action the United States sought, under the Pennsylvania Uniform Contribution Among Tortfeasors Act, 42 Pa. Cons. Stat. Ann. §§ 8321-27, and the Pennsylvania Storage Tank and Spill Prevention Act, 35 Pa. Stat. Ann. §§ 6021.101-.2104, the recovery of environmental cleanup costs incurred by the United States at the former Defense Supply Center Philadelphia (“DSCP”) property located at 2800 South 20th Street in Philadelphia, Pennsylvania. The United States also alleged—and sought an order under the Pennsylvania Clean Streams Law, 35 Pa. Stat. Ann. §§ 691.1-.1001, directing the defendants to abate—ongoing migration of petroleum hydrocarbons from a refinery, which is owned or operated by Sunoco, Inc. or its affiliates, to the former DSCP property. The defendants filed a counterclaim seeking to recover from the United States environmental cleanup costs that they incurred in connection with environmental contamination on, or allegedly originating from, the former DSCP property. The settlement agreement resolves the liability of the United States; Sunoco, Inc.; Sunoco, Inc. (R&M); Atlantic Refining and Marketing Corp.; Sunoco Partners Marketing and Terminals, LP; and Atlantic Richfield Company; to each other for the claims alleged in the complaint, amended complaint and the counterclaims in this action, subject to terms and conditions set forth in the settlement agreement and excluding any liability that the parties might have for any contamination in the Potomac-Raritan-Magothy formation below the uppermost or shallow aquifer. The proposed settlement agreement would require defendants to pay, collectively, $10 million to the United States.

The Department of Justice will receive for a period of thirty (30) days from the date of this publication comments relating to the settlement agreement. Comments should be addressed to the Assistant Attorney General, Environment and Natural Resources Division, and either e-mailed to pubcomment-ees.enrd@usdoj.gov or mailed to P.O. Box 7611, U.S. Department of Justice, Washington, DC 20044-7611, and should refer to United States v. Sunoco, Inc., D.J. Ref. 90-11-3-07721.

The settlement agreement may be examined on the following Department of Justice Web site, http://www.usdoj.gov/enrd/Consent_Decrees.html. A copy of the settlement agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.25 (25 cents per page reproduction cost) payable to the U.S. Treasury or, if by e-mail or fax, forward a check in that amount to the Consent Decree Library at the stated address.

Maureen Katz,
Assistant Chief, Environmental Enforcement Section, Environment and Natural Resources Division.

[FR Doc. 2010-25492 Filed 10-8-10; 8:45 am]

BILLING CODE 4410-15-P